INTERNATIONAL TRADE COMMISSION

[Investigation No. 337-TA-736]

Certain Wind and Solar-Powered Light Posts and Street Lamps; Notice of Commission Determination Not To Review an Initial Determination Granting Complainants' Unopposed Motion To Terminate the Investigation Based on the Withdrawal of the Complaint; Termination of the Investigation

AGENCY: U.S. International Trade Commission.

ACTION: Notice.

SUMMARY: Notice is hereby given that the U.S. International Trade Commission has determined not to review an initial determination (“ID”) (Order No. 20) of the presiding administrative law judge (“ALJ”) granting complainants' motion to terminate the investigation based on the withdrawal of the complaint in the above-referenced investigation.

FOR FURTHER INFORMATION CONTACT: Jia Chen, Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 27, 2010, based on a complaint filed by Duggal Dimensions LLC; Duggal Energy Solutions, LLC; and Duggal Visual Solutions, Inc., collectively of New York, New York. 75 FR 59291 (Sept. 27, 2010). The complaint alleged violations of Section 337 of the Tariff Act of 1930, as amended, 19 U.S.C. 1337, in the importation into the United States, the sale for importation, and the sale within the United States after importation of certain wind and solar-powered light posts and street lamps by reason of infringement of certain claims of U.S. Patent No. D610,732. The complaint named Gus Power Inc. of Mississauga, Ontario, Canada; Efston Science, Inc. of Toronto, Ontario, Canada; King Luminaire, Inc. of Jefferson, Ohio; and The StressCrete Group of Burlington, Ontario as respondents.

On July 29, 2011, the ALJ issued an ID (Order No. 18) extending the target date of the investigation by approximately two months from January 27, 2012 to March 16, 2012 on the basis of the parties' delay to the procedural schedule.

On August 1, 2011, complainants filed an unopposed motion to terminate the investigation based on the withdrawal of the complaint, stating that the private parties have entered into a written settlement agreement (“Settlement Agreement”). Public and confidential versions of the Settlement Agreement were attached to the motion. The motion also stated that there are no other agreements, written or oral, express or implied, between the parties concerning the subjection matter of this investigation. On August 2, 2011, the ALJ issued the subject ID granting complainants' unopposed motion. The public version of the Settlement Agreement is attached to the ID. The ALJ found that complainants' motion complies with Commission Rule 210.21(a). In the ID, the ALJ also denied a previous motion by respondents to terminate the investigation (Motion Docket No. 736-018) and a motion in limine by complainants to exclude the testimony of respondents' experts (Motion Docket No. 736-716), because the motions are moot.

The Commission has determined not to review the subject ID. The Commission notes that as a result, the ID extending the target date of the investigation is moot.

The authority for the Commission's determination is contained in Section 337 of the Tariff Act of 1930, as amended (19 U.S.C. 1337), and in section 210.42 of the Commission's Rules of Practice and Procedure (19 CFR 210.42).

By order of the Commission.
Issued: August 23, 2011.
James R. Holbein,
Secretary to the Commission.

[FR Doc. 2011-21893 Filed 8-25-11; 8:45 am]

BILLING CODE 7020-02-P